DEPARTMENT OF TRANSPORTATION

Federal Aviation Administration

Office of Commercial Space Transportation: Notice of Availability of the Final Programmatic Environmental Assessment and Finding of No Significant Impact/Record of Decision for Front Range Airport Launch Site Operator License, Spaceport Colorado

AGENCY: Federal Aviation Administration, DOT.

ACTION: Notice of availability.

SUMMARY: In accordance with the National Environmental Policy Act of 1969, as amended (NEPA), Council on Environmental Quality NEPA implementing regulations, and Federal Aviation Administration (FAA) Order 1050.1F, Environmental Impacts: Policies and Procedures, the FAA is announcing the availability of the Final Programmatic Environmental Assessment and Finding of No Significant Impact/Record of Decision for Front Range Airport Launch Site Operator License, Spaceport Colorado (Final PEA and FONSI/ROD).

FOR FURTHER INFORMATION CONTACT: Stacey Zee, Environmental Protection Specialist, Federal Aviation Administration, 800 Independence Avenue SW, Suite 325, Washington, DC 20591; phone (202) 267-9305; email Spaceport_Colorado_PEA@icf.com.

SUPPLEMENTARY INFORMATION: The Board of County Commissioners (the BOCC) of Adams County, Colorado proposes to operate a commercial space launch site, called “Spaceport Colorado,” at the Front Range Airport (FTG), in Watkins, Colorado. This would require the FAA to issue a launch site operator license to the BOCC. FTG is a 3,200-acre general aviation airport located in the northeast quadrant of the Denver metropolitan area, approximately 5 miles southeast of the Denver International Airport in Adams County, Colorado. Under the Proposed Action, the FAA would issue a launch site operator license to the BOCC, which would authorize the BOCC to offer Spaceport Colorado to commercial launch providers to conduct launch operations of horizontal take-off and horizontal landing reusable launch vehicles (RLVs). The FAA would also conditionally approve FTG's modified Airport Layout Plan (ALP) showing the launch site boundary. The Proposed Action does not include the approval of any launches. Any future application for a launch license would be subject to a separate environmental review, as explained in the Final PEA.

The Final PEA evaluated the potential environmental impacts of the Proposed Action and the No Action Alternative. Under the No Action Alternative, the FAA would not issue a launch site operator license to the BOCC for the operation of Spaceport Colorado, FTG would not be available to potential RLV launch operators, and there would be no need for conditional approval of the FTG ALP.

The FAA published a Draft PEA for public comment on April 18, 2018. In response to preliminary comments received on the Draft PEA, the FAA extended the comment period from May 25, 2018 to June 15, 2018. As a result of the comments received, the FAA made minor revisions to the PEA and developed three new appendices. Appendix I provides a summary of the comments received and FAA's responses. Appendix J provides a copy of correspondence with Congressional representatives and the FAA. Appendix K includes copies of the comments received from the public. The FAA has posted the Final PEA and FONSI/ROD on the FAA Office of Commercial Space Transportation website: https://www.faa.gov/about/office_org/headquarters_offices/ast/environmental/nepa_docs/review/documents_progress/front_range/.

Issued in Washington, DC on: August 16, 2018.
Daniel Murray,
Manager, Space Transportation Development Division.

[FR Doc. 2018-18251 Filed 8-22-18; 8:45 am]

BILLING CODE 4910-13-P